DEPARTMENT OF TRANSPORTATION

Pipeline and Hazardous Materials Safety Administration

Office of Hazardous Materials Safety; Notice of Applications for Modification of Special Permit

AGENCY: Pipeline and Hazardous Materials Safety Administration, DOT.

ACTION: List of applications for modification of special permit.

SUMMARY: In accordance with the procedures governing the application for, and the processing of, special permits from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” denote a modification request. These applications have been separated from the new application for special permits to facilitate processing.

DATES: Comments must be received on or before August 31, 2006.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street SW., Washington, DC or at http://dms.dot.gov.

This notice of receipt of applications for modification of special permit is published in accordance with Part 107 of the Federal hazardous materials transportation law (49 U.S.C. 5117(b); 49 CFR 1.53(b)).
Issued in Washington, DC, on August 10, 2006.
R. Ryan Posten,
Chief, Special Permits Program, Office of Hazardous Materials, Special Permits & Approvals.

Modification Special Permits
Application No. | Docket No. | Applicant | Regulation(s) affected | Modification of special permit | Nature of special permit thereof
11666-M |  | Alcoa, Inc., Pittsburgh, PA | 49 CFR 173.240(b) | 11666 | To modify the special permit to authorize the transportation of graphite products, as a Class 9 material, in non UN standard bulk packaging strapped to wooden pallets on flat railcars.
11911-M | RSPA-97-2735 | Transfer Flow Inc., Chico, CA | 49 CFR 178.700 thru 178.819 | 11911 | To modify the special permit to authorize quick connect hoses which would contain hazardous material when disconnected.
12643-M | RSPA-01-9066 | Northrop Grumman Space Technology | 49 CFR 173.302 and 175.3 | 12643 | To modify the special permit to authorize an increase in design volume for the pulse tube cooler up to 980 cc water capacity when shipped inside a strong, foam filled shipping container.

[FR Doc. 06-6947 Filed 8-15-06; 8:45 am]

BILLING CODE 4909-60-M